ENVIRONMENTAL PROTECTION AGENCY

[EPA-HQ-OPP-2008-0530; FRL-8372-8]

Potential Revision of the Product Performance Test Guidelines, Structural Treatments; Notice of Public Meeting

AGENCY: Environmental Protection Agency (EPA).

ACTION: Notice.

SUMMARY: EPA will conduct a public workshop on termiticide performance testing to discuss the potential revision of the OPPTS 810.3600 Product Performance Testing Guidelines and information needed to revise the testing guideline. Stakeholders have developed novel approaches to termite treatment and developed new pesticide chemistries since the adoption of the existing termiticide performance guideline. In response to these developments, EPA is holding a public workshop and requesting input on the relevance of the existing 810.3600 testing guideline scope and factors to be included in a revision, the applicability of the existing test guideline to novel product chemistries, and approaches to resolve the disparity between soil applied liquid termiticide testing guidelines and testing of other pesticides which may provide structural protection. This input will inform EPA on a possible guideline revision.

DATES: The meeting will be held on July 21, 2008 from 9:00 a.m. to 5:00 p.m. and July 22, 2008 from 9:00 a.m. to 5:00 p.m.

To request accommodation of a disability, please contact the person listed under FOR FURTHER INFORMATON CONTACT, preferably at least 10 days prior to the meeting, to give EPA as much time as possible to process your request.

ADDRESSES: The meeting will be held at Potomac Yard South Tower, 2777 South Crystal Drive, Arlington, VA 22202

Requests to participate in the meeting, identified by docket identification (ID) number EPA-HQ-OPP-2008-0530, may be submitted to the person listed under FOR FURTHER INFORMATION CONTACT.

FOR FURTHER INFORMATION CONTACT: Mark Suarez, Registration Division (7505P), Office of Pesticide Programs, Environmental Protection Agency, 1200 Pennsylvania Ave., NW., Washington, DC 20460-0001; telephone number: (703) 305-0120; fax number: (703) 305-6920; e-mail address: suarez.mark@epa.gov.

SUPPLEMENTARY INFORMATION:

I. General Information

A. Does this Action Apply to Me?

You may be potentially affected by this action if you manufacture or use products intended to protect structures from termite damage, have a financial investment in real property that could be devalued by termite damage, or are involved in the construction of structures susceptible to termite attack. Potentially affected entities may include, but are not limited to:

• Pesticide Manufacturing (NAICS code 325320), e.g., termite poisons manufacturing; pesticides manufacturing; insecticides manufacturing.

• Mortgage and Non-mortgage Loan Brokers (NAICS code 522310), e.g., mortgage brokers; mortgage companies.

• New Single-Family Housing Construction (except Operative Builders) (NAICS code 236115), e.g., home builders (except operative), single family home; Housing, single-family, construction general contractors; residential construction, single-family, general contractors.

• Exterminating and Pest Control Services (NAICS code 561710), e.g., exterminating services; pest control (except agricultural, forestry) services; termite control services.

• New Housing Operative Builders (NAICS code 236117), e.g., operative builders; housing construction, merchant or operative builders; .

• Secondary Market Financing (NAICS code 522294), e.g., federal home loan mortgage corporation (FHLMC); federal national mortgage association (FNMA); government national mortgage association (GNMA).

• All Other Nondepository Credit Intermediation (NAICS code 522298), e.g., federal home loan banks.

• Mortgage and Nonmortgage Loan Brokers (NAICS code 522310), e.g., mortgage brokers, mortgage companies.

• Wood Preservation (NAICS code 321114), e.g., preserving purchased wood and wood products; pressure treated lumber made from purchased timber; structural lumber and timber, treating.

This listing is not intended to be exhaustive, but rather provides a guide for readers regarding entities likely to be affected by this action. Other types of entities not listed in this unit could also be affected. The North American Industrial Classification System (NAICS) codes have been provided to assist you and others in determining whether this action might apply to certain entities. To determine whether you or your business may be affected by this action, you should carefully examine the background information below and the Product Performance Test Guidelines OPPTS 810.3600 Structural Treatments [EPA 712-C-98-424]. If you have any questions regarding the applicability of this action to a particular entity, consult the person listed under FOR FURTHER INFORMATION CONTACT.

B. How Can I Get Copies of this Document and Other Related Information?

1. Docket. EPA has established a docket for this action under docket ID number EPA-HQ-OPP-2008-0530. Publicly available docket materials are available either in the electronic docket at http://www.regulations.gov, or, if only available in hard copy, at the Office of Pesticide Programs (OPP) Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

2. Electronic access. You may access this Federal Register document electronically through the EPA Internet under the “Federal Register” listings at http://www.epa.gov/fedrgstr.

II. Background

Termites are a substantial economic threat to property owners. Annually, $5 billion is spend to treat termite infestations and repair the damage termites cause. In the United States, the major pestiferous termites are subterranean termites (e.g., Reticulitermes spp. and Coptotermes formosanus). Termites can cause substantial damage because:

1. They consume the primary materials used in construction; and

2. Their presence in a structure can go undetected for years. For the most part, property owners are incapable of assessing the risk of termite attack.

Pesticides intended to reduce the risk of termite infestation or treat structures already infested are classified as termiticides. Termiticides can be applied as a preventative or remedial treatment. Preventative treatments are applied before an active termite infestation is known to occur. Preventative treatments can be further divided into two sub-categories: pre-construction and post-construction. Pre-construction treatments are made prior to the installation of the final grade during the construction process. Post-construction treatments are made after the installation of the final grade. In neither case are termites treated directly; instead, a long-lasting, stable, relatively immobile chemical barrier (i.e., repellent and/or lethal pesticide) is employed to exclude termites from the structure by establishing horizontal and vertical barriers to termite infestation. This approach generally has been successful, especially when combined with removal of conditions conducive to termite infestation. Remedial treatment generally involves treating the infestation directly with a termiticide designed to both kill the termites present at the time of application and exclude the rest of the colony from the structure by establishing a chemical soil barrier.

The economic importance of termites and the complexities of proper termiticide application have led to the special consideration of termiticides at the time of registration. These products are unique in that they provide relief or protection from a pest that can be difficult to detect and treat. Furthermore, the biology of termites (i.e., number of colony members, cryptic nature, and amount of material consumed), the potential economic cost posed by damage resulting from a termite infestation, and the inability to reliably determine the effectiveness of a treatment at the time of application makes it important to verify the performance of products labeled for structural protection. Thus, it has been Agency policy that registrants demonstrate in nationwide trials that products labeled as soil applied liquid termiticides provide structural protection under simulated field conditions for at least 5 years.

EPA is requesting comments at a public workshop on:

1. The relevance of the existing 810.3600 testing guideline scope and factors to be included in a revision;

2. The applicability of the existing test guideline to novel product chemistries; and

3. Approaches to resolve the disparity between soil applied liquid termiticides and testing of other pesticides which may provide structural protection.

III. How Can I Request to Participate in this Meeting?

You may submit a request to participate in this meeting to the person listed under FOR FURTHER INFORMATION CONTACT. Do not submit any information in your request that is considered CBI. Requests to participate in the meeting, identified by docket ID number EPA-HQ-OPP-2008-0530, must be received on or before July 21, 2008.

List of Subjects

Environmental protection, pesticide, termite, structural protection.

Dated: June 27, 2008.
Lois Rossi,
Director, Registration Division, Office of Pesticide Programs.

q

[FR Doc. E8-15327 Filed 7-3-08; 8:45 am]

BILLING CODE 6560-50-S